DEPARTMENT OF HEALTH AND HUMAN SERVICES

Administration for Children and Families

Submission for OMB Review; Comment Request

Title: Runaway and Homeless Youth Management Information System.

OMB No.: 0970-0123.

Description: In the Runaway and Homeless Youth Act (42 U.S.C. 5701 et seq.) Congress mandated that the Department of Health and Human Services (HHS) report regularly on the status of HHS-funded programs serving Runaway and homeless youth in Basic Center programs (BC), Transitional Living programs (TLP) and Street Outreach programs. Organizations funded under the Runaway and Homeless Youth program are required by statute (42 U.S.C. 5712, 42 U.S.C. 5714-2) to meet several data collection and reporting requirements, including maintaining client statistical records and submitting annual program reports regarding the profile of the youth and families served and the services provided to them. The RHYMIS data supports these organizations as they carry out a variety of integrated, ongoing responsibilities and projects, including legislative reporting requirements, planning and public policy development for runaway and homeless youth programs, accountability monitoring, program management, research, and evaluation. RHYMIS has been redesigned and streamlined to reduce the collection burden upon respondents and to capture key information previously not requested.

Respondents: Not-for-profit institutions.

Annual Burden Estimates:

Instrument | Number of respondents | Number of responses per respondent | Average burden hours per response | Total burden hours
BC/TLP Youth Profile | 400 | 185 | .75 | 55,500
Street Outreach Report | 140 | 2 | .40 | 112
BC/TLP Brief Contacts | 400 | 100 | .10 | 4,000
BC/TLP Turnaways | 400 | 50 | .10 | 2,000
Data Transfer | 400 | 2 | .50 | 400

Estimated Total Annual Burden Hours: 62,012.

Additional Information: Copies of the proposed collection may be obtained by writing to The Administration for Children and Families, Office of Information Services, 370 L'Enfant Promenade, S.W., Washington, D.C. 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Desk Officer for ACF.

Dated: February 20, 2001.
Bob Sargis,
Reports Clearance Officer.

[FR Doc. 01-4557 Filed 2-23-01; 8:45 am]

BILLING CODE 4148-01-M